SMALL BUSINESS ADMINISTRATION

Request for Comments on Small Business Administration Enterprise Learning Agenda

AGENCY: Small Business Administration (SBA).

ACTION: Notice and request for comment.

SUMMARY: The Small Business Administration (SBA) is requesting comments on its Enterprise Learning Agenda (ELA) to inform an update for FY 2019. The FY 2018 ELA is available on SBA's website at https://www.sba.gov/sites/default/files/aboutsbaarticle/FY_2018_Enterprise_Learning_Agenda_OMB_SBA_Final_2_08_2018-Final_1.pdf.

DATES: Comments must be received on or before Friday, November 16, 2017 to be assured for consideration.

ADDRESSES: You may submit comments by the following methods (Please send comments by one method only):

Email: Address to Performance.Management@sba.gov. Include “Comments on SBA ELA” in the email subject line.

Mail: Address to Jason Bossie, Director, Office of Performance Management, U.S. Small Business Administration, Office of Performance Management and the Chief Financial Officer, 409 3rd St. SW, Suite 6000, Washington, DC 20416.

Hand/Delivery/Courier: Same as mail address.

FOR FURTHER INFORMATION CONTACT: Brittany Borg, Lead Program Evaluator, Small Business Administration at brittany.borg@sba.gov.

SUPPLEMENTARY INFORMATION: The SBA has developed an Enterprise Learning Agenda (ELA) to help program managers continue to build and use evidence and to foster an environment of continuous learning. The ELA is a five-year plan that identifies priorities based on SBA's four strategic goals in the FY 2018-2022 Strategic Plan where evaluations could provide insights about program effectiveness, progress toward outcomes, or test pilot initiatives. The Small Business Administration FY 2018 Enterprise Learning Agenda is provided for public input to ensure that the public and stakeholders are provided an opportunity to comment. Comments received on the FY 2018 Enterprise Learning Agenda will be considered during the creation of the FY 2019 Enterprise Learning Agenda to be published in February 2019.

Tim Gribben,
Chief Financial Officer and Associate Administrator for Performance Management.

[FR Doc. 2018-22643 Filed 10-16-18; 8:45 am]

BILLING CODE P